DEPARTMENT OF AGRICULTURE

Forest Service

Coconino Resource Advisory Committee

AGENCY: Forest Service, USDA.

ACTION: Notice of meeting.

SUMMARY: The Coconino Resource Advisory Committee will meet in Flagstaff, Arizona. The purpose of the meeting is for the committee members to discuss committee protocols, operating guidelines, and project proposal requirements.

DATES: The meeting will be held September 23, 2010, beginning at 1 p.m. to approximately 4 p.m.

ADDRESSES: The meeting will be held in the Ponderosa Room of the Coconino County Health Department, 2625 N. King, St., Flagstaff, Arizona 86004. Send written comments to Brady Smith. RAC Coordinator, Coconino Resource Advisory Committee, do Forest Service. USDA, 1824 5. Thompson St., Flagstaff, Arizona 86001 or electronically to bradysmith@fs.fed.us.

FOR FURTHER INFORMATION CONTACT: Brady Smith, Coconino National Forest, (928) 527-3490.

SUPPLEMENTARY INFORMATION: Agenda items for this meeting include discussion about (1) Whether or not projects will need to be NEPA-ready; (2) Possible limits on proposals; (3) Roles and responsibilities of the Coconino RAC; (4) Meeting structure, voting processes and agendas; (5) Budget; and (6) Project solicitation. The meeting is open to the public.

Dated: August 17, 2010.
Carol Boyd,
Acting Forest Supervisor, Coconino National Forest.

[FR Doc. 2010-21066 Filed 8-24-10; 8:45 am]

BILLING CODE 3410-11-M